DEPARTMENT OF STATE

[Public Notice: 12454]

Biodiversity Beyond National Jurisdiction

ACTION: Notice of public meeting.

SUMMARY: The Department of State will hold an information session regarding the Agreement under the United Nations Convention on the Law of the Sea on the conservation and sustainable use of marine biological diversity of areas beyond national jurisdiction (BBNJ Agreement).

DATES: The public meeting will be held via WebEx on July 17, 2023, 2:00-3:30 p.m. EDT.

FOR FURTHER INFORMATION CONTACT: If you would like to participate in this meeting, please provide your (1) name, (2) organization/affiliation, and (3) email address and phone number, to Samantha Emmert at emmertsa@state.gov.

SUPPLEMENTARY INFORMATION: The Department of State will hold a public meeting at 2:00 p.m. on Wednesday, July 17, 2024, to discuss the Agreement under the United Nations Convention on the Law of the Sea on the conservation and sustainable use of marine biological diversity of areas beyond national jurisdiction (BBNJ). This public meeting will be held by way of WebEx, with a capacity of up to 1,000 members of the public to participate. To RSVP, participants should contact the meeting coordinator, Samantha Emmert, by email at emmertsa@state.gov for log on and dial-in information, and to request reasonable accommodation. Requests for reasonable accommodation received after July 16, 2024, will be considered but might not be possible to fulfill.

The BBNJ Agreement was adopted by the BBNJ Intergovernmental Conference on June 19, 2023, at the United Nations, and the United States signed the BBNJ Agreement on September 20, 2023, the day it opened for signature. In April 2024, the United Nations established a Preparatory Commission to prepare for the entry into force of the Agreement and to prepare for the convening of the first meeting of the Conference of the Parties to the Agreement. An Organizational Meeting of the Preparatory Commission was held at the United Nations June 24-26, 2024. Additional information on the BBNJ Agreement is available at https://www.un.org/bbnjagreement/en.

We are inviting interested U.S. persons and entities to this virtual public meeting to share views about the BBNJ Agreement. We will provide information regarding ratifications by other countries, an update on domestic processes, and a read-out from the BBNJ Preparatory Commission's Organizational Meeting. The information obtained from this session will help the U.S. government in its preparations for the next steps related to the Agreement, including engagement in the Preparatory Commission.

Authority: 22 U.S.C. 2656.

Jennifer L. Becker,
Deputy Director, Office of Ocean and Polar Affairs, Department of State.

[FR Doc. 2024-15140 Filed 7-9-24; 8:45 am]

BILLING CODE 4710-09-P